DEPARTMENT OF HEALTH AND HUMAN SERVICES

Substance Abuse and Mental Health Services Administration

Center for Substance Abuse Treatment; Amendment of Meeting Notice

Pursuant to Public Law 92-463, notice is hereby given that the Substance Abuse and Mental Health Services Administration's (SAMHSA) Center for Substance Abuse Treatment (CSAT) National Advisory Council will meet June 25, 2014, 2:00-3:30 p.m. in a closed teleconference meeting.

Public Notice was published in the Federal Register on June 12, 2014, Volume 79, Number 115, Page 34333, Document number 2014-13670, Citation number 79 FR 33770, announcing that the Center for Substance Abuse Treatment's National Advisory Council would be convening an open teleconference meeting on June 19, 2014 at SAMHSA, 1 Choke Cherry Road, Rockville, MD 20857, for the purpose of reviewing grant applications reviewed by SAMHSA's Initial Review Groups.

Correction: The Center for Substance Abuse Treatment's National Advisory Council will convene a closed teleconference meeting on June 25, 2014, 2:00-3:30 p.m. The meeting will include discussions and evaluations of grant applications reviewed by SAMHSA's Initial Review Groups, and involve an examination of confidential financial and business information as well as personal information concerning the applicants. Therefore, the meeting will be closed to the public as determined by the SAMHSA Administrator, in accordance with Title 5 U.S.C. § 552b(c)(4) and (6) and (c)(9)(B).

A summary of the meeting and a roster of Council members may be obtained as soon as possible after the meeting, by accessing the SAMHSA Committee Web site at https://nac.samhsa.gov/CSATcouncil/index.aspx or by contacting the CSAT National Advisory Council Designated Federal Official, Ms. Cynthia Graham (see contact information below).

Committee Name: SAMHSA's Center for Substance Abuse Treatment National Advisory Council.

Date/Time/Type: June 25, 2014, 2:00-3:30 p.m. CLOSED.

Place: SAMHSA Building, 1 Choke Cherry Road, Rockville, Maryland 20857.

Contact: Cynthia Graham, M.S., Designated Federal Officer, SAMHSA CSAT National Advisory Council, 1 Choke Cherry Road, Room 5-1035, Rockville, Maryland 20857,

Telephone: (240) 276-1692,

Fax: (240) 276-1690,

Email: cynthia.graham@samhsa.hhs.gov.

Cathy J. Friedman,
Public Health Analyst, SAMHSA.

This notice is being published less than 15 days prior to the meeting due to the urgent need to meet timing limitations imposed by the review and funding cycle.

[FR Doc. 2014-14529 Filed 6-20-14; 8:45 am]

BILLING CODE 4162-20-P